DEPARTMENT OF ENERGY

10 CFR Part 431

[EERE-2022-BT-STD-0015]

Appliance Standards and Rulemaking Federal Advisory Committee: Notice of Open Meetings of the Commercial Unitary Air Conditioner and Commercial Unitary Heat Pump Working Group

AGENCY: Office of Energy Efficiency and Renewable Energy, Department of Energy.

ACTION: Notice of open meetings.

SUMMARY: This notice announces initial open meetings of the Commercial Unitary Air Conditioner (“CUAC”) and Commercial Unitary Heat Pump (“CUHP”) Working Group (“CUAC and CUHP Working Group”). The purpose of the CUAC and CUHP Working Group is to undertake a negotiated rulemaking to discuss and, if possible, reach consensus on a proposed rule for test procedures and energy conservation standards for CUAC and CUHP equipment, as authorized by the Energy Policy and Conservation Act of 1975, as amended.

DATES: The first meetings of the CUAC and CUHP Working Group will be held on Tuesday, September 20, 2022, and Wednesday, September 21, 2022.

ADDRESSES: All meetings will be held at the U.S. Department of Energy, Forrestal Building, 1000 Independence Ave. SW, Washington, DC 20585 in Room 1E-245.

FOR FURTHER INFORMATION CONTACT: Mr. Lucas Adin, U.S. Department of Energy, Office of Energy Efficiency and Renewable Energy, Building Technologies Office, EE-5B, 1000 Independence Avenue SW, Washington, DC 20585-0121. Telephone: (202) 287-5904. Email ApplianceStandardsQuestions@ee.doe.gov.

SUPPLEMENTARY INFORMATION:

Membership: The members of the CUAC and CUHP Working Group were chosen from nominations submitted in response to the Department of Energy's (“DOE”) notice of solicitation for membership published in the Federal Register on July 29, 2022. 87 FR 45703. The selections of the members were designed to ensure a broad and balanced array of stakeholder interests and expertise on the negotiating working group for the purpose of developing a rule that is legally and economically justified, technically sound, fair to all parties, and in the public interest. All meetings are open to all stakeholders and the public, and participation by all is welcome within boundaries as required by the orderly conduct of business. The members of the CUAC and CUHP Working Group are as follows.

DOE and Appliance Standards and Rulemaking Federal Advisory Committee (“ASRAC”) Representatives

• Ashley Armstrong (U.S. Department of Energy)

• Joanna Mauer (Appliance Standards Awareness Project)

• Dave Winningham (Lennox International)

Other Selected Members

• Michael Adams (Glumac)

• Mark Alatorre (Pacific Gas and Electric Company)

• Curtis Caskey (Johnson Controls, Inc.)

• Jill Hootman (Trane Technologies)

• Amy Kasson-Muzio (New York State Energy Research and Development Authority)

• Kyle Krueger (National Electrical Contractors Association)

• Patrick Riley (Carrier Global Corporation)

• Kevin Rose (Northwest Energy Efficiency Alliance)

• Allison Skidd (Rheem Manufacturing Company)

• Kevin Teakell (AAON, Inc.)

• Rusty Tharp (Daikin Comfort Technologies Manufacturing, L.P.)

• Joseph Vukovich (Natural Resources Defense Council)

Purpose of Meeting: To provide advice and recommendations to ASRAC on test procedures and energy conservation standards for CUAC and CUHP equipment under the authority of the Negotiated Rulemaking Act (5 U.S.C. 561-570, Pub. L. 104-320).

Public Participation: Open meetings will be held on: Tuesday, September 20, 2022, from 10 a.m. to 5 p.m. EDT and Wednesday, September 21, 2022, from 9 a.m. to 3 p.m. EDT. To attend the meetings and/or to make oral statements regarding any of the items on the agenda, email asrac@ee.doe.gov. In the email, please indicate your name, organization (if appropriate), citizenship, and contact information. Please note that foreign nationals visiting DOE Headquarters are subject to advance security screening procedures. Any foreign national wishing to participate in the meetings, please notify DOE as soon as possible by contacting Ms. Regina Washington at (202) 586-1214 or by email: regina.washington@ee.doe.gov so that the necessary procedures can be completed. Anyone attending the meetings will be required to present a government photo identification, such as a passport, driver's license, or government identification. Due to the required security screening upon entry, individuals attending should arrive early to allow for the extra time needed.

Members of the public will be heard in the order in which they sign up for the Public Comment Period. Time allotted per speaker will depend on the number of individuals who wish to speak but will not exceed five minutes. Reasonable provision will be made to include the scheduled oral statements on the agenda. A third-party neutral facilitator will make every effort to allow the presentations of views of all interested parties and to facilitate the orderly conduct of business.

Participation in the meetings is not a prerequisite for submission of written comments. Written comments are welcome from all interested parties. Any comments submitted must identify the CUAC and CUHP Working Group, and provide docket number EERE-2022-BT-STD-0015. Comments may be submitted using any of the following methods:

1. Federal eRulemaking Portal: www.regulations.gov. Follow the instructions for submitting comments.

2. Email: CommPkgACHP2022STDandTP0015@ee.doe.gov. Include docket number EERE-2022-BT-STD-0015 in the subject line of the message.

3. Postal Mail: Appliance and Equipment Standards Program, U.S. Department of Energy, Building Technologies Program, Mailstop EE-5B, 1000 Independence Avenue SW, Washington, DC 20585-0121. If possible, please submit all items on a compact disc (“CD”), in which case it is not necessary to include printed copies.

4. Hand Delivery/Courier: Appliance and Equipment Standards Program, U.S. Department of Energy, Building Technologies Program, 950 L'Enfant Plaza SW, 6th Floor, Washington, DC 20024. Telephone: (202) 287-1445. If possible, please submit all items on a CD, in which case it is not necessary to include printed copies.

No telefacsimilies (faxes) will be accepted.

Docket: The docket, which includes Federal Register notices, public meeting attendee lists and transcripts, comments, and other supporting documents/materials is available for review at www.regulations.gov. All documents in the docket are listed in the www.regulations.gov index. However, some documents listed in the index, such as those containing information that is exempt from public disclosure, may not be publicly available.

The docket web page can be found at www.regulations.gov/docket/EERE-2022-BT-STD-0015. The docket web page contains instructions on how to access all documents, including public comments, in the docket.

Approval of the Office of the Secretary

The Secretary of Energy has approved publication of notice of open meetings.

Signing Authority

This document of the Department of Energy was signed on August 26, 2022, Dr. Geraldine L. Richmond, Undersecretary of Science and Innovation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 26, 2022.
Treena V. Garrett,
Federal Register Liaison Officer, U.S. Department of Energy.

[FR Doc. 2022-18864 Filed 8-31-22; 8:45 am]

BILLING CODE 6450-01-P